CONSUMER PRODUCT SAFETY COMMISSION

[Docket No. CPSC-2022-0031]

Notice of Availability and Request for Comment: CPSC's Draft Strategic Plan 2023-2026

AGENCY: U.S. Consumer Product Safety Commission.

ACTION: Notice of availability and request for comment.

SUMMARY: The U.S. Consumer Product Safety Commission (Commission or CPSC) has approved a Draft Strategic Plan for 2023-2026 and CPSC seeks comments from the public on this document as part of its strategic planning process.

DATES: Comments must be received by September 26, 2022.

ADDRESSES: You can submit comments, identified by Docket No. CPSC-2022-0031, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by electronic mail (email), except as described below.

Mail/Hand Delivery/Courier Written Submissions: CPSC encourages you to submit electronic comments by using the Federal eRulemaking Portal. You may, however, submit comments by mail, hand delivery, or courier to: Office of the Secretary, Consumer Product Safety Commission, 4330 East West Highway, Bethesda, MD 20814; telephone (301) 504-7479.

Instructions: All submissions must include the agency name and docket number. CPSC may post all comments without change, including any personal identifiers, contact information, or other personal information provided, to: https://www.regulations.gov. If you wish to submit confidential business information, trade secret information, or other sensitive or protected information that you do not want to be available to the public, you must submit such comments by mail, hand delivery, or courier, or by email to: cpsc-os@cpsc.gov.

Docket: For access to the docket to read background documents or comments received, go to: https://www.regulations.gov, and insert the docket number, CPSC-2022-0031, into the “Search” box, and follow the prompts.

FOR FURTHER INFORMATION CONTACT: Daniel Kim, Office of Budget, Planning and Evaluation, U.S. Consumer Product Safety Commission, 4330 East West Highway, Bethesda, MD 20814; telephone (301) 504-7816; email: dkim@cpsc.gov.

SUPPLEMENTARY INFORMATION: The CPSC is an independent federal regulatory agency with a public health and safety mission to protect the public from the unreasonable risks of injury and death from consumer products. The CPSC is providing notice that the agency is seeking public comments on its Draft Strategic Plan for 2023-2026 (draft plan).¹ Under the draft plan, CPSC's mission is “Protecting the public from unsafe consumer products.” The agency's overarching vision is: “A nation free from unreasonable risks of injury and death from consumer products.” The CPSC will work to achieve four strategic goals that will contribute to realizing the vision and achieving the mission.

¹ The Commission voted 5-0 to approve this notice.

The strategic goals are:

• Prevent hazardous products from reaching consumers.

• Address hazardous consumer products in the marketplace and with consumers in a fast and effective manner.

• Communicate actionable information about consumer product safety quickly and effectively.

• Efficiently and effectively support the CPSC's mission.

The CPSC's programs will align with the strategic goals, and the agency will implement strategies through initiatives and priority activities to achieve the strategic goals. The draft plan sets out how the CPSC will pursue the four strategic goals. The draft plan is available on the Commission's website at: https://cpsc-d8-media-prod.s3.amazonaws.com/s3fs-public/CPSCDraftStrategicPlan2023-2026. The draft plan is also available for viewing at https://www.regulations.gov under docket number, CPSC-2022-0031, “Supporting and Related Material.”

The draft plan serves as a draft of the Commission's intended Strategic Plan for 2023-2026. The CPSC accordingly seeks comments on all aspects of the draft plan. CPSC has a wide range of external stakeholders from industry, trade associations, consumers and consumer groups, nonprofits, and standards development organizations, as well as from the international, congressional, federal, state, and local sectors. The agency looks forward to receiving comments from all individuals and entities involved in, and affected by, the CPSC's activities. Please provide comments as directed in the ADDRESSES section of this notice.

Abioye Mosheim,
Acting Secretary, Consumer Product Safety Commission.

[FR Doc. 2022-18438 Filed 8-25-22; 8:45 am]

BILLING CODE 6355-01-P